DEPARTMENT OF AGRICULTURE

Foreign Agricultural Service

Notice of a Request for Extension of a Currently Approved Information Collection

AGENCY: Foreign Agricultural Service, USDA.

ACTION: Notice and request for comments.

SUMMARY: In accordance with the Paperwork Reduction Act, this notice announces the Department's intention to request an extension for a currently approved information collection in support of the Dairy Tariff-Rate Import Quota Licensing program.

DATES: Comments should be submitted no later than August 1, 2003 to be assured of consideration.

ADDITIONAL INFORMATION AND COMMENTS: Contact Michael Hankin, Dairy Import Quota Manager, STOP 1021, U.S. Department of Agriculture, 1400 Independence Avenue, SW., Washington, DC 20250-1021, telephone (202) 720-9439.

SUPPLEMENTARY INFORMATION:

Title: Dairy Tariff-Rate Import Quota Licensing Program.

OMB Number: 0551-0001.

Expiration Date of Approval: October 31, 2003.

Type of Request: Extension of a currently approved information collection.

Abstract: The currently approved information collection supports the Dairy Tariff-Rate Import Quota Regulation (the Regulation) (7 CFR 6.20-6.37) which governs the administration of the import licensing system applicable to most dairy products subject to tariff-rate quotas (TRQs). The TRQs were established in the Harmonized Tariff Schedule of the United States (HTS) as a result of entry of certain provisions in the Uruguay Round Agreements Act (Pub. L. 103-465) that converted existing absolute quotas to TRQs. Imports of nearly all cheese made from cow's milk (except soft-ripened cheese such as Brie) and certain non-cheese dairy products (including butter and dried milk) are subject to TRQs and the Regulation. Licenses are issued each quota year to eligible applicants and are valid for twelve months (January 1 through December 31). Only licensees may enter dairy articles at low-tier TRQ tariff-rates. Importers who do not hold licenses may enter dairy articles only at high-tier TRQ tariff-rates.

Each quota year, all applicants must submit form FAS 923 (rev. 7-96). This form requires applicants to: (1) Certify they are either an importer, manufacturer or exporter of certain dairy products; (2) certify they meet the eligibility requirements of § 6.23 of the Regulation; and (3) submit documentation required by § 6.23 and § 6.24 as proof of eligibility for import licenses. Applicants for non-historical licenses must also submit form FAS 923-A (rev. 7-96) (cheese) and/or FAS 923-B (rev. 7-96) (non-cheese dairy products). This form requires applicants to request licenses in descending order of preference for specific products and countries listed on the form.

After licenses are issued, § 6.26 requires licensees to surrender by October 1 on form FAS 924-A, License Surrender Form, any license amount that a licensee does not intend to enter that year. These amounts are reallocated, to the extent practicable, to existing licensees for the remainder of that year based on requests submitted on form FAS 924-B, Application for Additional License Amounts. Form 924A and 924B requires the licensee to complete a scannable table listing the surrendered amount by license number, or listing the additional amounts requested by dairy article, supplying country and amount requested, in descending order of preference.

The estimated total annual burden of 270 hours in the OMB inventory for the currently approved information collection will be increased by 156 hours to 426 hours. The estimated public reporting burden for this collection of currently approved FAS 923, FAS 923-A, and 923-B (one form) (rev. 7-96) is estimated to average 405 hours; and FAS 924-A and FAS 924-B (one form) is 21 hours. The estimated increase in burden hours is based on an increase in the number of respondents which has primarily resulted from the growing domestic interest in importing cheeses.

Estimate of burden: The average burden, including the time for reviewing instructions, gathering data needed, completing forms, and record keeping is estimated at .75 hour for form FAS 923, 923-A, 923-B (rev. 7-96) and .15 hour for form 924-A, 924-B.

Respondents: Importers and manufacturers of cheese and non-cheese dairy products, and exporters of non-cheese dairy products.

Estimated number of respondents: 540 for form FAS 923, 923-A, 923-B (rev. 7-96) and 140 for form 924-A, 924-B (rev. 7-96).

Estimated Number of Responses per Respondent: 1.

Estimated Total Annual Burden: 426 hours.

Requests for Comments: Send comments regarding (a) whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology. Comments may be sent to Michael Hankin, Import Policies and Program Division, FAS, 1400 Independence Avenue, Stop 1021, SW., Washington, DC 20520-1021 or Michael.Hankin@fas.usda.gov., or to the Desk Officer for Agriculture, Office of Information and Regulatory Affairs, Office of Management and Budget, Washington, DC 20503. Persons with disabilities who require an alternative means of communication of information (Braille, large print, audiotape, etc.) should contact USDA's Target Center at (202) 720-2600 (voice and TDD). All responses to this notice will be summarized and included in the request for OMB approval. All comments also will become a matter of public record.

FAS is committed to compliance with the Government Paperwork Elimination Act (GPEA), which requires Government agencies, in general, to provide the public the option of submitting information or transacting business electronically to the maximum extent possible. Electronic submission of the information collection will be implemented before October 2003 in compliance with the GPEA. The Department will request OMB approval of forms that are being developed for electronic submission of the information collection, and issue a Federal Register notice soliciting public comments on the requested revision of the information collection to provide for submission of the information collection on electronic forms. All public comments received will be considered prior to implementation of an electronic reporting system, and will also become a matter of public record. Copies of that information collection will be made available from Kimberly Chisley, the Agency Information Collection Coordinator, at (202) 720-2568 or e-mail at Chisley@fas.usda.gov.

Signed at Washington, DC, on April 30, 2003.
A. Ellen Terpstra,
Administrator, Foreign Agricultural Service.

[FR Doc. 03-13603 Filed 5-30-03; 8:45 am]

BILLING CODE 3410-10-M